DEPARTMENT OF TRANSPORTATION

Surface Transportation Board

[STB Finance Docket No. 33981]

Three Notch Railroad Co., Inc.—Acquisition, Lease and Operation Exemption—Alabama & Florida Railway Company

Three Notch Railroad Co., Inc. (TNR), a noncarrier, has filed a verified notice of exemption under 49 CFR 1150.31 to: (1) Acquire from Alabama & Florida Railway Company (A&F), its rights and interest in, and to operate, an approximately 34-mile rail line extending approximately from right-of-way station 22+57, at the interchange point with CSX Transportation, Inc. (CSXT), in Georgiana, AL, to A&F milepost 581.3, in Andalusia, AL (Georgiana Line); (2) take assignment of A&F's lease with CSXT to the extent it pertains to the right-of-way underlying the Georgiana Line; and (3) take assignment of A&F's lease with Andalusia & Conecuh Railroad Company (A&C) for the lease and operation of the rail line extending approximately from milepost S428+4706 feet to milepost S425+5170 feet, in Andalusia (A&C Line), in Covington, Butler and Conecuh Counties, AL. The A&C Line connects with the Georgiana Line in Andalusia.¹

¹ TNR certifies that its annual revenue will not exceed those that would qualify it as a Class III rail carrier and that its annual revenue are not projected to exceed $5 million.

The transaction was expected to be consummated on or shortly after June 8, 2001, the effective date of the exemption.

This transaction is related to STB Finance Docket No. 33982, Gulf & Ohio Railways Holding Co., Inc., H. Peter Claussen and Linda C. Claussen—Continuance in Control Exemption—Three Notch Railroad Co., Inc., wherein Gulf & Ohio Railways Holding Co., Inc. (GORH), H. Peter Claussen and Linda C. Claussen ² have concurrently filed a verified notice to continue in control of TNR upon its becoming a Class III rail carrier.

² H. Peter Claussen and Linda C. Claussen, who wholly own GORH, also own and control H&S Railroad, Inc., which operates in Alabama.

If the verified notice contains false or misleading information, the exemption is void ab initio. Petitions to revoke the exemption under 49 U.S.C. 10502(d) may be filed at any time. The filing of a petition to revoke will not automatically stay the transaction.

An original and 10 copies of all pleadings, referring to STB Finance Docket No. 33981, must be filed with the Surface Transportation Board, Office of the Secretary, Case Control Unit, 1925 K Street, NW., Washington, DC 20423-0001. In addition, a copy of each pleading must be served on Troy W. Garris, Weiner Brodsky Sidman Kider PC, 1300 19th Street, NW., Fifth Floor, Washington, DC 20036-1609.

Board decisions and notices are available on our website at WWW.STB.DOT.GOV.”

Decided: June 22, 2001.
By the Board, David M. Konschnik, Director, Office of Proceedings.
Vernon A. Williams,
Secretary.

[FR Doc. 01-16463 Filed 6-28-01; 8:45 am]

BILLING CODE 4915-00-P